DEPARTMENT OF ENERGY

Federal Energy Regulatory Commission

[Project No. 10481-069, Eagle Creek Hydro Power, LLC, Eagle Creek Water Resources, LLC, Eagle Creek Land Resources, LLC]

Notice of Application Tendered for Filing With the Commission and Establishing Procedural Schedule for Licensing and Deadline for Submission of Final Amendments

Take notice that the following hydroelectric application has been filed with the Commission and is available for public inspection.

a. Type of Application: New Major License.

b. Project No.: 10481-069.

c. Date Filed: March 31, 2020.

d. Applicant: Eagle Creek Hydro Power, LLC, Eagle Creek Water Resources, LLC, and Eagle Creek Land Resources, LLC (collectively referred to as Eagle Creek).

e. Name of Project: Mongaup Falls Hydroelectric Project (Mongaup Falls Project).

f. Location: The existing project is located on the Mongaup River and Black Brook in Sullivan County, New York. The project does not occupy federal lands.

g. Filed Pursuant to: Federal Power Act, 16 U.S.C. 791 (a)-825(r).

h. Applicant Contact: Mr. Robert Gates, Senior Vice President—Regulatory, Eagle Creek Renewable Energy, LLC., 116 N State Street, P.O. Box 167, Neshkoro, WI 54960-0167; (973)998-8400 or bob.gates@eaglecreekre.com.

i. FERC Contact: Nicholas Ettema at (312) 596-4447 or email at nicholas.ettema@ferc.gov.

j. This application is not ready for environmental analysis at this time.

k. Project Description: The Mongaup Falls Project includes the Mongaup Falls Development and the Black Brook Development. The Black Brook Development has been permanently out of service since 1984, when portions of the penstock, stoplogs, and flashboards were removed.

The Mongaup Fall Development consists of: (1) A reservoir with a gross storage capacity of 1,782 acre-feet and a surface area of 133 acres; (2) a 155-foot-long by 40-foot-high, ungated, concrete gravity spillway with 4-foot, 10-inch-high flashboards; (2) an 83-foot-long, by 25-foot, 4-inch-high earth dam section with a concrete core wall along the right abutment; (3) a 125-foot-long, 127-foot-high concrete retaining wall along the left abutment; (4) a 11-foot-high, 22-foot-square intake and gatehouse; (5) a 250-foot-long by 4.5-foot-high earthen closure dike; (6) a 6,650-foot-long bypassed reach; (7) a 2,650-foot-long, 8-foot-diameter wood-stave penstock; (8) a 26-foot-diameter, 106-foot-high steel surge tank; (9) a 9-foot-diameter steel manifold branching into four 5-foot-diameter steel penstocks; (10) a 14-foot-wide by 32-foot-high inclined trashracks with 1.7-inch bar clear spacing; (11) a 90-foot-long by 25-foot, 2-inch-wide by 33-foot-high reinforced concrete powerhouse containing four 1-megawatt vertical-axis turbines; and (12) a 100-foot-long, 2.3-kilovolt underground transmission line. The project generates an average of 10,860 megawatt-hours annually. Eagle Creek proposes to continue to operate the project in a peaking mode.

The Black Brook Development consists of a 70-foot-long dam with a 34-foot-long concrete spillway section and 10-foot-long stoplog section. The stoplog section consists of a 2-foot-wide concrete pier that divides the 8-foot-long stoplog section from the spillway. The concrete spillway is approximately 10-foot-high from the base to the crest and is keyed into bedrock with a 3-foot by 3-foot keyway. Prior to removal of the penstock, pond control was accomplished with an 8‐foot‐wide stoplog section and 34‐foot‐wide flashboard section, each erected to a height of 5 feet above the dam crest. The failure of the penstock in 1984, resulted in the removal of the 8-foot-wide, 5-foot-high stoplog section on the right side of the dam and the 5-foot-high flashboards. Currently, the Black Brook Development is a run-of-river, uncontrolled spillway with a crest elevation of 943 feet National Geodetic Vertical Datum of 1929 (NGVD29) and a dam/spillway toe elevation of approximately 930-933 feet NGVD29 (including the 3-foot by 3-foot keyway).

l. A copy of the application is available for review on the Commission's website at http://www.ferc.gov using the “eLibrary” link. Enter the docket number excluding the last three digits in the docket number field to access the document. At this time, the Commission has suspended access to the Commission's Public Reference Room due to the Proclamation on Declaring a National Emergency Concerning the Novel Coronavirus Disease (COVID-19) Outbreak, issued by the President on March 13, 2020. For assistance, please contact FERC Online Support at FERCOnlineSupport@ferc.gov, (866) 208-3676 (toll free), or (202) 502-8659 (TTY).

m. You may also register online at http://www.ferc.gov/docs-filing/esubscription.asp to be notified via email of new filings and issuances related to this or other pending projects. For assistance, contact FERC Online Support.

n. Procedural Schedule: The application will be processed according to the following preliminary schedule. Revisions to the schedule may be made as appropriate.

Milestone | Target date
Notice of Acceptance/Notice of Ready for Environmental Analysis | July 2020.
Filing of recommendations, preliminary terms and conditions, and fishway prescriptions | November 2020.
Commission issues Environmental Assessment (EA) | May 2021.
Comments on EA | June 2021.
Modified terms and conditions | August 2021.

o. Final amendments to the application must be filed with the Commission no later than 30 days from the issuance date of the notice of ready for environmental analysis.

Dated: April 8, 2020.
Kimberly D. Bose,
Secretary.

[FR Doc. 2020-07807 Filed 4-13-20; 8:45 am]

BILLING CODE 6717-01-P